DEPARTMENT OF HOMELAND SECURITY

Coast Guard

46 CFR Part 115

Inspection and Certification

CFR Correction

In Title 46 of the Code of Federal Regulations, parts 90 to 139, revised as of October 1, 2004, on page 311, the second § 115.620 is removed.

[FR Doc. 05-55504 Filed 4-18-05; 8:45 am]

BILLING CODE 1505-01-D